DEPARTMENT OF COMMERCE

United States Patent and Trademark Office

37 CFR Parts 1 and 2

[Docket No. 991105297-1125-03]

RIN 0651-AB01

Revision of Patent and Trademark Fees for Fiscal Year 2002; Correction

AGENCY: United States Patent and Trademark Office, Commerce.

ACTION: Notice of proposed rulemaking; correction.

SUMMARY: The United States Patent and Trademark Office published a proposed rule in the Federal Register of May 9, 2001, revising certain patent fee amounts and a trademark fee amount for fiscal year 2002, changing the maintenance fee correspondence address, and amending a fee to reflect current business practice. This document corrects one error in that proposed rule.

FOR FURTHER INFORMATION CONTACT: Matthew Lee by e-mail at matthew.lee@uspto.gov, by telephone at (703) 305-8051, or by fax at (703) 305-8007.

SUPPLEMENTARY INFORMATION: The United States Patent and Trademark Office published a proposed rule entitled “Revision of Patent and Trademark Fees for Fiscal Year 2002” in the Federal Register of May 9, 2001 (66 FR 23642). The proposed rule contains an error in the Other Considerations section. The paragraph that references an appendix comparing existing and proposed fee amounts should have been omitted. The appendix was referenced for informational purposes only. This document corrects the error in the Other Considerations section.

In rule FR Doc. 01-11591, published on May 9, 2001 (66 FR 23642), make the following correction. On page 23643, in the third column, remove the third paragraph from the Other Considerations section.

Dated: May 31, 2001.
Nicholas P. Godici,
Acting Under Secretary of Commerce for Intellectual Property and Acting Director of the United States Patent and Trademark Office.

[FR Doc. 01-14510 Filed 6-7-01; 8:45 am]

BILLING CODE 3510-16-P